DEPARTMENT OF ENERGY

Federal Energy Regulatory Commission

[Project No. 13701-000]

FFP Missouri 2, LLC; Notice of Preliminary Permit Application Accepted for Filing and Soliciting Comments, Motions To Intervene, and Competing Applications

July 7, 2010.

On April 5, 2010, FFP Missouri 2, LLC filed an application, pursuant to section 4(f) of the Federal Power Act, proposing to study the feasibility of the Sardis Lake Hydroelectric Project, to be located on the Little Tallahatchie River, Panola County, Mississippi. The sole purpose of a preliminary permit, if issued, is to grant the permit holder priority to file a license application during the permit term. A preliminary permit does not authorize the permit holder to perform any land-disturbing activities or otherwise enter upon lands or waters owned by others without the owners' express permission.

The proposed Sardis Lake Hydroelectric Project consists of: (1) An existing 15,300-foot-long dam and dike; (2) a control tower containing four vertical gates connected to a 550-foot-long outlet tunnel; (3) a proposed 75-foot-wide intake structure; (4) a proposed 800-foot-long, 16-foot diameter steel penstock; (5) a proposed reinforced concrete powerhouse containing a 8.0-megawatt turbine/generator; (6) a proposed 1 and 0.25-mile-long 138-kilovolt three-phase overhead transmission line; and (7) appurtenant facilities. The FFP Missouri 2, LLC, project would have an average annual generation of 40-gigawatt-hours.

Applicant Contact: Ms. Ramya Swaminathan, FFP Missouri 2, LLC, 33 Commercial Street, Gloucester, MA 01930, phone (978) 283-2822.

FERC Contact: Pennie Lewis-Partee, (202) 502-6018.

Deadline for filing comments, motions to intervene, competing applications (without notices of intent), or notices of intent to file competing applications: 60 days from the issuance date of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426.

For more information on how to submit these types of filings please go to the Commission's Web site located at http://www.ferc.gov/filing-comments.asp. More information about this project can be viewed or printed on the “eLibrary” link of Commission's Web site at http://www.ferc.gov/docs-filing/elibrary.asp. Enter the docket number (P-13701) in the docket number field to access the document. For assistance, call toll-free 1-866-208-3372.

Kimberly D. Bose,
Secretary.

[FR Doc. 2010-17106 Filed 7-13-10; 8:45 am]

BILLING CODE 6717-01-P